DEPARTMENT OF COMMERCE

International Trade Administration

[A-570-890]

Wooden Bedroom Furniture From the People's Republic of China: Final Results and Final Rescission in Part

AGENCY: Import Administration, International Trade Administration, Department of Commerce.

SUMMARY: On October 24, 2011, the Department of Commerce (Department) published in the Federal Register its preliminary results of the administrative review of the antidumping duty order on wooden bedroom furniture from the People's Republic of China (PRC), covering the period January 1, 2010 through December 31, 2010.¹ We gave interested parties an opportunity to comment on the Preliminary Results. Based on the analysis of the record and the comments received, the Department is rescinding the review with respect to Tube-Smith Enterprises (ZhangZhou) Co., Ltd., Tube-Smith Enterprise (Haimen) Co., Ltd., and Billionworth Enterprise, Ltd. (collectively, Tube-Smith).

¹ See Wooden Bedroom Furniture From the People's Republic of China: Preliminary Results of Antidumping Duty Administrative Review and Intent to Rescind Review in Part, 76 FR 65684 (October 24, 2011) (Preliminary Results).

DATES: Effective Date: August 27, 2012.

FOR FURTHER INFORMATION CONTACT: Rebecca Pandolph, AD/CVD Operations, Office 4, Import Administration, International Trade Administration, U.S. Department of Commerce, 14th Street and Constitution Avenue NW., Washington, DC 20230; telephone: (202) 482-3627.

Background

On November 23, 2011, Petitioners ² and Amini Innovation Corp. (Amini) submitted case briefs to the Department. On November 28, 2011, Tube-Smith filed a letter in lieu of a rebuttal brief with the Department.

² Petitioners are the American Furniture Manufactures Committee for Legal Trade and Vaughan-Bassett Furniture Company, Inc. (Petitioners).

On November 23, 2011, Amini requested that the Department conduct a hearing in the above-referenced review.³ On December 8, 2011, Amini informed the Department that it no longer requested a hearing and counsel for Amini requested a meeting with Christian Marsh, Deputy Assistant Secretary for Antidumping and Countervailing Duty Operations.⁴ On December 14, 2011, counsel for Amini met with the Department.⁵

³ See letter from Amini to the Honorable John Bryson, Acting Secretary of Commerce regarding, “Wooden Bedroom Furniture from the People's Republic of China; Administrative Review for the Period January 1, 2010 to December 31, 2010,” dated November 23, 2011.

⁴ See Memorandum to the File from Rebecca Pandolph, International Trade Compliance Analyst, Office 4, AD/CVD Operations, regarding, “Antidumping Duty Administrative Review of Wooden Bedroom Furniture from the People's Republic of China for the January 1, 2010 to December 31, 2010 period,” dated December 9, 2011.

⁵ See Memorandum to the File regarding 2010 Antidumping Duty Administrative Review of Wooden Bedroom Furniture from the People's Republic of China: Ex Parte Meeting,” dated December 14, 2011.

On December 20, 2011, the Department received a separate rate certification from Baigou Crafts Factory of Fengkai. On December 29, 2011, the Department rejected the separate rate certification as untimely.⁶

⁶ See letter from Abdelali Elouaradia, Director, Office 4, AD/CVD Operations to Baigou Crafts Factory of Fengkai regarding, dated December 29, 2011.

Analysis of Comments Received

All issues raised in the case and rebuttal briefs by parties in this review are addressed in the Memorandum from Christian Marsh, Deputy Assistant Secretary for Antidumping and Countervailing Duty Operations, to Paul Piquado, Assistant Secretary for Import Administration, “Issues and Decision Memorandum for the Final Results of the 2010 Administrative Review of the Antidumping Duty Order on Wooden Bedroom Furniture from the People's Republic of China,” dated August 20, 2012, which is hereby adopted by this notice (Issues and Decision Memorandum). A list of the issues which parties raised and to which we responded in the Issues and Decision Memorandum is attached to this notice as an Appendix. The Issues and Decision Memorandum is a public document and is on file in the Central Records Unit, Main Commerce Building, Room 7046, and is accessible on the Web at <http://ia.ita.doc.gov/frn>. The paper copy and electronic version of the memorandum are identical in content.

Period of Review

The period of review (POR) is January 1, 2010, through December 31, 2010.

Scope of the Order

The product covered by the order is wooden bedroom furniture. Wooden bedroom furniture is generally, but not exclusively, designed, manufactured, and offered for sale in coordinated groups, or bedrooms, in which all of the individual pieces are of approximately the same style and approximately the same material and/or finish. The subject merchandise is made substantially of wood products, including both solid wood and also engineered wood products made from wood particles, fibers, or other wooden materials such as plywood, strand board, particle board, and fiberboard, with or without wood veneers, wood overlays, or laminates, with or without non-wood components or trim such as metal, marble, leather, glass, plastic, or other resins, and whether or not assembled, completed, or finished.

The subject merchandise includes the following items: (1) Wooden beds such as loft beds, bunk beds, and other beds; (2) wooden headboards for beds (whether stand-alone or attached to side rails), wooden footboards for beds, wooden side rails for beds, and wooden canopies for beds; (3) night tables, night stands, dressers, commodes, bureaus, mule chests, gentlemen's chests, bachelor's chests, lingerie chests, wardrobes, vanities, chessers, chifforobes, and wardrobe-type cabinets; (4) dressers with framed glass mirrors that are attached to, incorporated in, sit on, or hang over the dresser; (5) chests-on-chests,⁷ highboys,⁸ lowboys,⁹ chests of drawers,¹⁰ chests,¹¹ door chests,¹² chiffoniers,¹³ hutches,¹⁴ and armoires;¹⁵ (6) desks, computer stands, filing cabinets, book cases, or writing tables that are attached to or incorporated in the subject merchandise; and (7) other bedroom furniture consistent with the above list.

⁷ A chest-on-chest is typically a tall chest-of-drawers in two or more sections (or appearing to be in two or more sections), with one or two sections mounted (or appearing to be mounted) on a slightly larger chest; also known as a tallboy.

⁸ A highboy is typically a tall chest of drawers usually composed of a base and a top section with drawers, and supported on four legs or a small chest (often 15 inches or more in height).

⁹ A lowboy is typically a short chest of drawers, not more than four feet high, normally set on short legs.

¹⁰ A chest of drawers is typically a case containing drawers for storing clothing.

¹¹ A chest is typically a case piece taller than it is wide featuring a series of drawers and with or without one or more doors for storing clothing. The piece can either include drawers or be designed as a large box incorporating a lid.

¹² A door chest is typically a chest with hinged doors to store clothing, whether or not containing drawers. The piece may also include shelves for televisions and other entertainment electronics.

¹³ A chiffonier is typically a tall and narrow chest of drawers normally used for storing undergarments and lingerie, often with mirror(s) attached.

¹⁴ A hutch is typically an open case of furniture with shelves that typically sits on another piece of furniture and provides storage for clothes.

¹⁵ An armoire is typically a tall cabinet or wardrobe (typically 50 inches or taller), with doors, and with one or more drawers (either exterior below or above the doors or interior behind the doors), shelves, and/or garment rods or other apparatus for storing clothes. Bedroom armoires may also be used to hold television receivers and/or other audio-visual entertainment systems.

The scope of the order excludes the following items: (1) Seats, chairs, benches, couches, sofas, sofa beds, stools, and other seating furniture; (2) mattresses, mattress supports (including box springs), infant cribs, water beds, and futon frames; (3) office furniture, such as desks, stand-up desks, computer cabinets, filing cabinets, credenzas, and bookcases; (4) dining room or kitchen furniture such as dining tables, chairs, servers, sideboards, buffets, corner cabinets, china cabinets, and china hutches; (5) other non-bedroom furniture, such as television cabinets, cocktail tables, end tables, occasional tables, wall systems, book cases, and entertainment systems; (6) bedroom furniture made primarily of wicker, cane, osier, bamboo or rattan; (7) side rails for beds made of metal if sold separately from the headboard and footboard; (8) bedroom furniture in which bentwood parts predominate; ¹⁶ (9) jewelry armories; ¹⁷ (10) cheval mirrors; ¹⁸ (11) certain metal parts; ¹⁹ (12) mirrors that do not attach to, incorporate in, sit on, or hang over a dresser if they are not designed and marketed to be sold in conjunction with a dresser as part of a dresser-mirror set; (13) upholstered beds ²⁰ and (14) toy boxes.²¹

¹⁶ As used herein, bentwood means solid wood made pliable. Bentwood is wood that is brought to a curved shape by bending it while made pliable with moist heat or other agency and then set by cooling or drying. See CBP's Headquarters Ruling Letter 043859, dated May 17, 1976.

¹⁷ Any armoire, cabinet or other accent item for the purpose of storing jewelry, not to exceed 24 inches in width, 18 inches in depth, and 49 inches in height, including a minimum of 5 lined drawers lined with felt or felt-like material, at least one side door (whether or not the door is lined with felt or felt-like material), with necklace hangers, and a flip-top lid with inset mirror. See Issues and Decision Memorandum from Laurel LaCivita to Laurie Parkhill, Office Director, concerning “Jewelry Armoires and Cheval Mirrors in the Antidumping Duty Investigation of Wooden Bedroom Furniture from the People's Republic of China,” dated August 31, 2004. See also Wooden Bedroom Furniture From the People's Republic of China: Final Changed Circumstances Review, and Determination To Revoke Order in Part, 71 FR 38621 (July 7, 2006).

¹⁸ Cheval mirrors are any framed, tiltable mirror with a height in excess of 50 inches that is mounted on a floor-standing, hinged base. Additionally, the scope of the order excludes combination cheval mirror/jewelry cabinets. The excluded merchandise is an integrated piece consisting of a cheval mirror, i.e., a framed tiltable mirror with a height in excess of 50 inches, mounted on a floor-standing, hinged base, the cheval mirror serving as a door to a cabinet back that is integral to the structure of the mirror and which constitutes a jewelry cabinet line with fabric, having necklace and bracelet hooks, mountings for rings and shelves, with or without a working lock and key to secure the contents of the jewelry cabinet back to the cheval mirror, and no drawers anywhere on the integrated piece. The fully assembled piece must be at least 50 inches in height, 14.5 inches in width, and 3 inches in depth. See Wooden Bedroom Furniture From the People's Republic of China: Final Changed Circumstances Review and Determination To Revoke Order in Part, 72 FR 948 (January 9, 2007).

¹⁹ Metal furniture parts and unfinished furniture parts made of wood products (as defined above) that are not otherwise specifically named in this scope (i.e., wooden headboards for beds, wooden footboards for beds, wooden side rails for beds, and wooden canopies for beds) and that do not possess the essential character of wooden bedroom furniture in an unassembled, incomplete, or unfinished form. Such parts are usually classified under HTSUS subheadings 9403.90.7005, 9403.90.7010, or 9403.90.7080.

²⁰ Upholstered beds that are completely upholstered, i.e., containing filling material and completely covered in sewn genuine leather, synthetic leather, or natural or synthetic decorative fabric. To be excluded, the entire bed (headboards, footboards, and side rails) must be upholstered except for bed feet, which may be of wood, metal, or any other material and which are no more than nine inches in height from the floor. See Wooden Bedroom Furniture from the People's Republic of China: Final Results of Changed Circumstances Review and Determination to Revoke Order in Part, 72 FR 7013 (February 14, 2007).

²¹ To be excluded the toy box must: (1) Be wider than it is tall; (2) have dimensions within 16 inches to 27 inches in height, 15 inches to 18 inches in depth, and 21 inches to 30 inches in width; (3) have a hinged lid that encompasses the entire top of the box; (4) not incorporate any doors or drawers; (5) have slow-closing safety hinges; (6) have air vents; (7) have no locking mechanism; and (8) comply with American Society for Testing and Materials (ASTM) standard F963-03. Toy boxes are boxes generally designed for the purpose of storing children's items such as toys, books, and playthings. See Wooden Bedroom Furniture from the People's Republic of China: Final Results of Changed Circumstances Review and Determination to Revoke Order in Part, 74 FR 8506 (February 25, 2009). Further, as determined in the scope ruling memorandum “Wooden Bedroom Furniture from the People's Republic of China: Scope Ruling on a White Toy Box,” dated July 6, 2009, the dimensional ranges used to identify the toy boxes that are excluded from the wooden bedroom furniture order apply to the box itself rather than the lid.

Imports of subject merchandise are classified under subheadings 9403.50.9042 and 9403.50.9045 of the U.S. Harmonized Tariff Schedule (HTSUS) as “wooden * * * beds” and under subheading 9403.50.9080 of the HTSUS as “other * * * wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheadings 9403.50.9041, 9403.60.8081, 9403.20.0018, or 9403.90.8041. Further, framed glass mirrors may be entered under subheading 7009.92.1000 or 7009.92.5000 of the HTSUS as “glass mirrors * * * framed.” The order covers all wooden bedroom furniture meeting the above description, regardless of tariff classification. Although the HTSUS subheadings are provided for convenience and customs purposes, our written description of the scope of this proceeding is dispositive.

Separate Rates

Companies Not Providing Separate Rate Certifications or Applications

In the Preliminary Results, we stated that the following 14 companies or company groupings for which the Department initiated the instant review did not provide a separate rate certification or application and therefore have not demonstrated their eligibility for separate rate status in this administrative review:

• Dongguan Bon Ten Furniture Co., Ltd.

• Dongguan Grand Style Furniture Co. Ltd.; Hong Kong Da Zhi Furniture Co., Ltd.

• Dongguan Hero Way Woodwork Co., Ltd.; Dongguan Da Zhong Woodwork Co., Ltd.; Hero Way Enterprises Ltd.; Well Earth International Ltd.

• Dongguan Mu Si Furniture Co., Ltd.

• Hainan Jong Bao Lumber Co., Ltd.; Jibbon Enterprise Co., Ltd.

• Kuan Lin Furniture (Dong Guan) Co., Ltd.; Kuan Lin Furniture Factory; Kuan Lin Furniture Co., Ltd.

• Kunshan Lee Wood Product Co., Ltd.

• Leefu Wood (Dongguan) Co., Ltd.; King Rich International, Ltd.

• Meikangchi (Nantong) Furniture Company Ltd.

• Nantong Dongfang Orient Furniture Co., Ltd.

• Shanghai Fangjia Industry Co. Ltd.

• Winny Overseas, Ltd.; Zhongshan Winny Furniture Ltd.; Winny Universal Ltd.

• Zhong Shan Fullwin Furniture Co., Ltd.

• Zhongshan Gainwell Furniture Co. Ltd.

In the Preliminary Results, we also found that (1) Baigou Crafts Factory of Fengkai, (2) Locke Furniture Factory; Kai Chan Furniture Co., Ltd.; Kai Chan (Hong Kong) Enterprise Ltd.; Taiwan Kai Chan Co., Ltd, (collectively, Locke Furniture Factory) and (3) Zhangjiang Sunwin Arts & Crafts Co., Ltd. (Sunwin) had shipped subject merchandise during the POR despite reporting that they made no shipments of subject merchandise to the United States during the POR. Because these companies had not timely filed separate rate certifications or applications, thereby failing to provide separate rate information and demonstrate their eligibility for a separate rate, we treated these companies as part of the PRC-wide entity. Since the Preliminary Results, no interested parties submitted comments regarding the companies listed above. Therefore, for the final results, we continue to treat these entities as part of the PRC-Wide entity.

Final Partial Rescission of Administrative Review

The Department has reconsidered the facts of this case and the arguments made by interested parties. Based on the particular fact pattern present here, and for the reasons stated in the Issues and Decision Memorandum, the Department is rescinding the administrative review with respect to Tube-Smith.²²

²² See Issues and Decision Memorandum at Issue 1.

In the Preliminary Results, the Department stated its intent to rescind the administrative review with respect to the following companies because they all reported that they made no shipments during the POR.

• Hangzhou Cadman Trading Co., Ltd.

• Dongguan Huangsheng Furniture Co., Ltd.

• Golden Well International (HK) Ltd.

• Zhejiang Tianyi Scientific and Educational Equipment Co., Ltd.

No parties commented on our intent to rescind. Because there is no information or argument on the record of the current review that warrants reconsidering our intent to rescind, we are rescinding this administrative review with respect to the above-listed companies.

In the Preliminary Results, the Department also stated its intent to rescind the administrative review with respect to the following companies, which were part of the PRC-wide entity during the POR, because all requesting parties withdrew their respective requests for an administrative review within 90 days of the date of publication of the notice of initiation:

• Brother Furniture Manufacture Co., Ltd.²³

²³ Because Brother Furniture Manufacture Co., Ltd. lost its separate rate on August 18, 2010 (see 4th Review Final Results), and has not filed a separate rate application to establish its eligibility for a separate rate in this review, the Department is treating this company as part of the PRC-wide entity.

• C.F. Kent Co., Inc.

• C.F. Kent Hospitality, Inc.

• Champion Sun Industries Limited

• Contact Co., Ltd.

• Denny's Furniture Associates Corp.

• Denny's International Co., Ltd.

• Der Cheng Furniture Co., Ltd.

• Der Cheng Wooden Works

• Dong Guan Golden Fortune Houseware Co., Ltd.²⁴

²⁴ Because Dong Guan Golden Fortune Houseware Co., Ltd. lost its separate rate on August 18, 2010 (see 4th Review Final Results), and has not filed a separate rate application to establish its eligibility for a separate rate in this review, the Department is treating this company as part of the PRC-wide entity.

• Dongguan Chunsan Wood Products Co., Ltd.²⁵

²⁵ Because Dongguan Chunsan Wood Products Co., Ltd. lost its separate rate on August 18, 2010 (see 4th Review Final Results), and has not filed a separate rate application to establish its eligibility for a separate rate in this review, the Department is treating this company as part of the PRC-wide entity.

• Dongguan Hua Ban Furniture Co., Ltd.²⁶

²⁶ Because Dongguan Hua Ban Furniture Co., Ltd. lost its separate rate on August 18, 2010 (see 4th Review Final Results), and has not filed a separate rate application to establish its eligibility for a separate rate in this review, the Department is treating this company as part of the PRC-wide entity.

• DongGuan Sundart Timber Products Co., Ltd

• Ever Spring Furniture Company Ltd.²⁷

²⁷ Because Ever Spring Furniture Company Ltd.; S.Y.C. Family Enterprise Co., Ltd. lost its separate rate on August 18, 2010 (see 4th Review Final Results), and has not filed a separate rate application to establish its eligibility for a separate rate in this review, the Department is treating this company as part of the PRC-wide entity.

• Evershine Enterprise Co.

• Fleetwood Fine Furniture LP

• Fujian Putian Jinggong Furniture Co., Ltd.

• Gainwell Industries Limited

• Green River Wood (Dongguan) Ltd.²⁸

²⁸ Because Green River Wood (Dongguan) Ltd. lost its separate rate on August 18, 2010 (see 4th Review Final Results), and has not filed a separate rate application to establish its eligibility for a separate rate in this review, the Department is treating this company as part of the PRC-wide entity.

• Guangdong Gainwell Industrial Furniture Co., Ltd.

• Hong Kong Jingbi Group

• Huasen Furniture Co., Ltd.

• Jiant Furniture Co., Ltd.

• King Kei Trading Company Limited ²⁹

• King's Way Furniture Industries Co., Ltd.³⁰

• Kingsyear Ltd.³¹

• Longkou Huangshan Furniture Factory

• MoonArt Furniture Group

• MoonArt International Inc.

• Nanjing Jardine Enterprise, Ltd.

• Nanjing Nanmu Furniture Co., Ltd.³²

• Nantong Wangzhuang Furniture Co., Ltd.

• Ningbo Fubang Furniture Industries Limited

• Ningbo Furniture Industries Company Ltd.

• Ningbo Techniwood Furniture Industries Limited

• Northeast Lumber Co., Ltd.

• Passwell Wood Corporation

• S.Y.C. Family Enterprise Co., Ltd.³³

• Senyuan Furniture Group

• Shanghai Aosen Furniture Co., Ltd.³⁴

• Shanghai Hospitality Product Mfg., Co., Ltd.

• Shanghai Industries Group

• Shanghai Kent Furniture Co., Ltd.

• Shanghai Season Industry & Commerce Co., Ltd.

• Shanghai Zhiyi (Jiashun) Furniture Co., Ltd.

• Shanghai Zhiyi Furniture and Decoration Co., Ltd.

• Shaoxing Mengxing Furniture Co., Ltd.

• Starwood Furniture Manufacturing Co., Ltd.³⁵

• Sundart International, Ltd.

• Techniwood (Macao Commercial Offshore) Limited

• Tradewinds International Enterprise Ltd.

• Trendex Industries Ltd.

• Wan Bao Chen Group Hong Kong Co., Ltd.³⁶

• World Design International Co., Ltd.

• Xilinmen Furniture Co., Ltd.

• Xingli Arts & Crafts Factory of Yangchun ³⁷

• Yuexing Group Co., Ltd.

• Zhejiang Shaoxing Huaweimei Furniture Co., Ltd.

• Zhong Shan Heng Fu Furniture Co.

• Zhongshan Fengheng Furniture Co., Ltd.

• Zhongshan Yiming Furniture Co., Ltd.

²⁹ Because King Kei Trading Company Limited lost its separate rate on August 18, 2010 (see 4th Review Final Results), and has not filed a separate rate application to establish its eligibility for a separate rate in this review, the Department is treating this company as part of the PRC-wide entity.

³⁰ Because King's Way Furniture Industries Co., Ltd.; Kingsyear Ltd. lost its separate rate on August 18, 2010 (see 4th Review Final Results), and has not filed a separate rate application to establish its eligibility or a separate rate in this review, the Department is treating this company as part of the PRC-wide entity.

³¹ Because King's Way Furniture Industries Co., Ltd.; Kingsyear Ltd. lost its separate rate on August 18, 2010 (see 4th Review Final Results), and has not filed a separate rate application to establish its eligibility or a separate rate in this review, the Department is treating this company as part of the PRC-wide entity.

³² Because Nanjing Nanmu Furniture Co., Ltd. lost its separate rate on August 18, 2010 (see 4th Review Final Results), and has not filed a separate rate application to establish its eligibility for a separate rate in this review, the Department is treating this company as part of the PRC-wide entity.

³³ Because Ever Spring Furniture Company Ltd.; S.Y.C. Family Enterprise Co., Ltd. lost its separate rate on August 18, 2010 (see 4th Review Final Results), and has not filed a separate rate application to establish its eligibility for a separate rate in this review, the Department is treating this company as part of the PRC-wide entity.

³⁴ Because Shanghai Aosen Furniture Co., Ltd. lost its separate rate on August 18, 2010 (see 4th Review Final Results), and has not filed a separate rate application to establish its eligibility for a separate rate in this review, the Department is treating this company as part of the PRC-wide entity.

³⁵ Because Starwood Furniture Manufacturing Co., Ltd. lost its separate rate on August 18, 2010 (see 4th Review Final Results), and has not filed a separate rate application to establish its eligibility for a separate rate in this review, the Department is treating this company as part of the PRC-wide entity.

³⁶ Because Wan Bao Chen Group Hong Kong Co., Ltd. lost its separate rate on August 18, 2010 (see 4th Review Final Results), and has not filed a separate rate application to establish its eligibility for a separate rate in this review, the Department is treating this company as part of the PRC-wide entity.

³⁷ Because Xingli Arts & Crafts Factory of Yangchun lost its separate rate on August 18, 2010 (see 4th Review Final Results), and has not filed a separate rate application to establish its eligibility for a separate rate in this review, the Department is treating this company as part of the PRC-wide entity.

No parties commented on our intent to rescind with respect to these companies. However, because as noted above, these companies were part of the PRC-wide entity during the POR, they have remained under review as part of the PRC-wide entity. Our determination with respect to the PRC-wide entity is explained below in the section entitled “Adverse Facts Available (AFA).”

Adverse Facts Available (AFA)

In the Preliminary Results, pursuant to sections 776(a)(2)(A) and (C) of the Tariff Act of 1930, as amended (the Act), the Department based the dumping margin of the PRC-wide entity on the facts otherwise available on the record. Additionally, the Department determined, pursuant to section 776(b) of the Act, that with respect to the PRC-wide entity the use of an adverse inference is warranted in selecting from the facts otherwise available. Consistent with its practice, the Department assigned a rate of 216.01 percent, the highest margin from any prior segment of the proceeding, to the PRC-wide entity as AFA.³⁸ No interested party commented on the rate assigned to the PRC-wide entity and we have made no changes from our Preliminary Results with respect to this issue.

³⁸ See Preliminary Results, 76 FR 65684, 65691.

As explained in the Preliminary Results, the Department corroborated the 216.01 percent rate pursuant to section 776(c) and considers the rate to be reliable and relevant with respect to the PRC-wide entity. Specifically, the Department found the rate to be reliable because it is a company-specific margin calculated in the 2004-2005 new shipper review of the wooden bedroom furniture order and no additional information was presented in the current review to call into question the reliability of the rate. We also found the rate to be relevant with respect to the PRC-wide entity because it is within the range of transaction-specific margins on the record of the two prior administrative reviews.³⁹ No party has commented on the Department's corroboration of the selected total AFA rate for the PRC-wide entity.

³⁹ See Preliminary Results, 76 FR 65684, 65692.

Final Results of the Review

We determine that the following weighted-average percentage margin exists for the POR:

Exporter | Antidumping duty percent margin
PRC-Wide Entity | 216.01

Assessment Rates

Pursuant to section 751(a)(2)(A) of the Act and 19 CFR 351.212(b), the Department will determine, and U.S. Customs and Border Protection (CBP) shall assess, antidumping duties on all appropriate entries of subject merchandise in accordance with the final results of this review. The Department intends to issue assessment instructions to CBP 15 days after the publication date of the final results of this review.

For Tube-Smith and the other entities for which the Department has rescinded this review which are not part of the PRC-wide entity, antidumping duties shall be assessed on period of review entries at rates equal to the cash deposit of estimated antidumping duties required at the time of entry, or withdrawal from warehouse, for consumption, in accordance with 19 CFR 351.212(c)(1)(i). Antidumping duties shall be assessed on period of review entries from the PRC-wide entity at 216.01 percent.

In addition, pursuant to an injunction issued in Legacy Classic Furniture, Inc. v. United States, CIT No. 10-00352 on December 28, 2010, the Department must continue to suspend liquidations of entries of the heritage court bench (model 800-4800) which were imported by Legacy Classic Furniture, Inc. pending a conclusive court decision.

Cash Deposit Requirements

The following cash deposit requirements will be effective upon publication of the final results of this administrative review for all shipments of the subject merchandise entered, or withdrawn from warehouse, for consumption on or after the publication date, as provided for by section 751(a)(2)(C) of the Act: (1) For previously investigated or reviewed PRC and non-PRC exporters not listed above that have separate rates, the cash deposit rate will continue to be the exporter-specific rate published for the most recent period; (2) for all PRC exporters of subject merchandise that have not been found to be entitled to a separate rate, the cash deposit rate will be the PRC-wide rate of 216.01 percent; and (3) for all non-PRC exporters of subject merchandise which have not received their own rate, the cash deposit rate will be the rate applicable to the PRC exporter(s) that supplied that non-PRC exporter. These deposit requirements, when imposed, shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

We are issuing and publishing these final results and notice in accordance with sections 751(a)(1) and 777(i)(1) of the Act.

Dated: August 20, 2012.
Paul Piquado,
Assistant Secretary for Import Administration.

Appendix

Issue 1: Whether the Department Should Rescind the Review of Tube-Smith

Issue 2: The Appropriate Rate To Assign to Tube-Smith

Issue 3: Whether the Department Misspelled Tube-Smith's Name in the Cash Deposit Instruction

Issue 4: Whether the Department Should Make Corrections to the PRC-Wide Liquidation Instructions.

[FR Doc. 2012-21043 Filed 8-24-12; 8:45 am]

BILLING CODE P